DEPARTMENT OF LABOR

Employment and Training Administration

[TA-W-54,442]

Holman Cooking Equipment, Inc., a Subsidiary of Star International Holdings, Saco, ME; Notice of Termination of Investigation

Pursuant to section 221 of the Trade Act of 1974, as amended, an investigation was initiated on March 8, 2004 in response to a petition filed by a company official on behalf of workers at Holman Cooking Equipment, Inc., a subsidiary of Star International Holdings, Saco, Maine.

The petitioner has requested that the petition be withdrawn. Consequently, the investigation has been terminated.

Signed at Washington, DC, this 23rd day of March, 2004.
Richard Church,
Certifying Officer, Division of Trade Adjustment Assistance.

[FR Doc. 04-7575 Filed 4-2-04; 8:45 am]

BILLING CODE 4510-30-P